DEPARTMENT OF HOUSING AND URBAN DEVELOPMENT

24 CFR Part 1000

[Docket No. FR-5275-N-09]

Native American Housing Assistance and Self-Determination Reauthorization Act of 2008: Negotiated Rulemaking Committee Meetings

AGENCY: Office of the Assistant Secretary for Public and Indian Housing, HUD.

ACTION: Notice of negotiated rulemaking committee meetings.

SUMMARY: This document announces two meetings of the negotiated rulemaking committee that was established pursuant to the Native American Housing Assistance and Self-Determination Reauthorization Act of 2008. The primary purpose of the committee is to discuss and negotiate a proposed rule that would change the regulations for the Indian Housing Block Grant (IHBG) program and the Title VI Loan Guarantee program.

DATES: The fourth committee meeting will be held on Tuesday, June 8, 2010, Wednesday, June 9, 2010, and Thursday, June 10, 2010. The fifth committee meeting will be held on Tuesday, July 20, 2010, Wednesday, July 21, and Thursday, July 22, 2010. The meetings will begin at 8 a.m. and are scheduled to end at 5 p.m. on each day.

ADDRESSES: The fourth meeting will take place at the Hyatt at Olive 8, 1635 8th Avenue, Seattle, Washington 98101; telephone number 206-695-1234 (this is not a toll-free number). The fifth meeting will take place at the Crowne Plaza Hotel Seattle, 1113 Sixth Avenue, Seattle, WA 98101; telephone number 206-464-1980 (this is not a toll-free number).

FOR FURTHER INFORMATION CONTACT: Rodger J. Boyd, Deputy Assistant Secretary for Native American Programs, Office of Public and Indian Housing, Department of Housing and Urban Development, 451 Seventh Street, SW., Room 4126, Washington, DC 20410; telephone number 202-401-7914 (this is not a toll-free number). Hearing or speech-impaired individuals may access this number via TTY by calling the toll-free Federal Information Relay Service at 1-800-877-8339.

SUPPLEMENTARY INFORMATION:

I. Background

The Native American Housing Assistance and Self-Determination Reauthorization Act of 2008 (Pub. L. 110-411, approved October 14, 2008) (NAHASDA Reauthorization) reauthorizes The Native American Housing Assistance and Self-Determination Act of 1996 (25 U.S.C. 4101 et seq.) (NAHASDA) through September 30, 2013, and makes a number of amendments to the statutory requirements governing the Indian Housing Block Grant Program (IHBG) and Title VI Loan Guarantee programs. For more information on the IHBG and Title VI of NAHASDA, please see the background section of the Notice of Negotiated Rulemaking Committee Meeting published on February 22, 2010 at (75 FR 7579). The NAHASDA Reauthorization amends section 106 of NAHASDA to provide that HUD shall initiate a negotiated rulemaking in order to implement aspects of the 2008 Reauthorization Act that require rulemaking. On January 5, 2010 (75 FR 423), HUD published a Federal Register notice announcing the final list of members of the negotiated rulemaking committee (the Native American Housing Assistance & Self-Determination Negotiated Rulemaking Committee).

II. Negotiated Rulemaking Committee Meeting

This document announces the fourth and fifth meetings of the Native American Housing Assistance & Self-Determination Negotiated Rulemaking Committee. The committee meetings will take place as described in the DATES and ADDRESSES sections of this document. The meetings will be open to the public without advance registration. Public attendance may be limited to the space available. Members of the public may be allowed to make statements during the meetings, to the extent time permits, and to file written statements with the committee for its consideration. Written statements should be submitted to the address listed in the FOR FURTHER INFORMATION CONTACT section of this document.

Dated: May 24, 2010.
T. Michael Andrews,
Director, Office of Headquarters Operations, Office of Native American Programs.

[FR Doc. 2010-12972 Filed 5-27-10; 8:45 am]

BILLING CODE 4210-67-P